DEPARTMENT OF ENERGY

Federal Energy Regulatory Commission

[Docket No. RP02-395-000]

ANR Storage Company; Notice of Tariff Filing

August 1, 2002.

Take notice that on July 26, 2002, ANR Storage Company (ANR Storage), tendered for filing as part of its FERC Gas Tariff, Original Volume No. 1, the following tariff sheets, with an effective date of August 25, 2002:

Fourth Revised Sheet No. 19

Second Revised Sheet No. 20A

Second Revised Sheet No. 25

Second Revised Sheet No. 26

First Revised Sheet No. 27

First Revised Sheet No. 28

First Revised Sheet No. 52 First Revised Sheet No. 54

Second Revised Sheet No. 126A

First Revised Sheet No. 127

Second Revised Sheet No. 128

First Revised Sheet No. 131

First Revised Sheet No. 156

Second Revised Sheet No. 157

ANR Storage states that the tariff sheets are being filed to make various minor clean-up related changes to its tariff including a change in the contact information due to the merger of The Coastal Corporation, ANR Storage's previous parent and El Paso Corporation. Also, a change is being made to the FS Rate Schedule so that it reflects actual current practices. Finally, ANR Storage is adding a provision that allows it to waive the requirement of providing earnest money for creditworthy companies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-19936 Filed 8-6-02; 8:45 am]

BILLING CODE 6717-01-P